DEPARTMENT OF THE INTERIOR

Bureau of Land Management

[LLIDB00000 L11500000.CB0000 LXSS024D0000: 4500007763]

Notice of Public Meeting, Boise District Resource Advisory Council Working Group

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Boise District Resource Advisory Council (RAC) Working Group and Subgroups will meet as indicated below.

DATES: The RAC-formed Payette River System Working Group will meet in Boise, Idaho on June 30, 2009. The meeting location is the BLM Boise District Offices, 3948 S. Development Avenue, Boise, Idaho, beginning at 6:30 p.m. (MST). Additional Subgroups of the RAC will meet periodically between the regular quarterly RAC meetings and present recommendations for discussion and action. All Subgroup meetings are open to the public, and notification of these meetings will be provided to the public through local media outlets.

Contact: MJ Byrne, Public Affairs Officer and RAC Coordinator, BLM Boise District, 3948 Development Ave., Boise, ID 83705. Telephone: (208) 384-3393. E-mail: mary_j_byrne@blm.gov.

SUPPLEMENTARY INFORMATION: The BLM Boise District and U.S. Forest Service Boise National Forest (BNF), who jointly manage the Payette River System, chartered this Working Group under the RAC in order to reach out to user groups and the public to provide advice to the agencies to help address management challenges. The Working Group meets once a year to review the previous season's accomplishments and proposed projects and to offer recommendations through the RAC to the BLM Boise District and BNF. Agenda items and locations may change due to changing circumstances. All meetings are open to the public. The public may present written comments to the Working Group and Subgroups. The Working Group and Subgroup meetings will also have time allocated for hearing public comments. Depending on the number of persons wishing to comment and time available, the time for individual oral comments may be limited. Individuals who plan to attend and need special assistance, such as sign language interpretation, tour transportation, or other reasonable accommodations, should contact the BLM Coordinator as provided above. Expedited publication is requested to give adequate public notice.

Dated: June 2, 2009.
Aden L. Seidlitz,
District Manager.

[FR Doc. E9-13416 Filed 6-8-09; 8:45 am]

BILLING CODE 4310-GG-P